FEDERAL DEPOSIT INSURANCE CORPORATION

Sunshine Act Meeting

FEDERAL REGISTER CITATION OF PREVIOUS ANNOUNCMENT: October 14, 2022 (87 FR 62413)

PREVIOUSLY ANNOUNCED TIME AND DATE OF THE MEETING: 10:00 a.m., Tuesday, October 18, 2022.

PLACE: The meeting is open to the public. Out of an abundance of caution related to current and potential coronavirus developments, the public's means to observe this Board meeting will be via a Webcast live on the internet and subsequently made available on-demand approximately one week after the event. Visit https://youtu.be/s7moPsvjKto to view the meeting. If you need any technical assistance, please visit our Video Help page at: https://www.fdic.gov/video.html. Observers requiring auxiliary aids (e.g., sign language interpretation) for this meeting should email DisabilityProgram@fdic.gov to make necessary arrangements.

STATUS: Open.

CHANGES IN THE MEETING: The FDIC gave notice of the open meeting scheduled for Tuesday, October 18, 2022. Notice is hereby given that a matter will be added to the “discussion agenda” for the meeting.

Matter to be Added: Memorandum and resolution re: Advanced Notice of Proposed Rulemaking entitled “Resolution-Related Resource Requirements for Large Banking Organizations.”

CONTACT PERSON FOR MORE INFORMATION: Requests for further information concerning the meeting may be directed to Debra A. Decker, Executive Secretary of the Corporation, at 202-898-8748.

(Authority: 5 U.S.C. 552b)

Dated at Washington, DC, on October 14, 2022.
Federal Deposit Insurance Corporation.
James P. Sheesley,
Assistant Executive Secretary.

[FR Doc. 2022-22704 Filed 10-14-22; 4:15 pm]

BILLING CODE 6714-01-P